DEPARTMENT OF TRANSPORTATION

[Docket No. DOT-OST-2019-0028]

Notice of Request for Clearance of a Revision of a Currently Approved Information Collection: National Census of Ferry Operators

AGENCY: Bureau of Transportation Statistics (BTS), Office of the Assistant Secretary for Research and Technology (OST-R), DOT.

ACTION: Notice.

SUMMARY: In accordance with the requirements of the Paperwork Reduction Act of 1995, this notice announces the intention of the BTS to request the Office of Management and Budget's (OMB's) approval for new iterations of an on-going biennial information collection related to the nation's ferry operations. The information collected from each Census will be used to produce a descriptive database of existing ferry operations. A summary report of census findings will also be published by BTS on the BTS web page: www.bts.gov/ncfo.

DATES: Comments must be submitted on or before December 5, 2022.

FOR FURTHER INFORMATION CONTACT: Clara Reschovsky, (202) 768-4994, NCFO Program Manager, BTS, OST-R, Department of Transportation, 1200 New Jersey Ave. SE, Room E36-324, Washington, DC 20590. Office hours are from 8:00 a.m. to 5:30 p.m., E.T., Monday through Friday, except Federal holidays.

SUPPLEMENTARY INFORMATION:

Title: National Census of Ferry Operators (NCFO).

Type of Request: Approval modifications to an existing information collection.

Affected Public: There are approximately 250 ferry operators nationwide.

Abstract: In 1998, the Transportation Equity Act for the 21st Century (TEA-21) (Pub. L. 105-178), section 1207(c), directed the Secretary of Transportation to conduct a study of ferry transportation in the United States and its possessions. In 2000, the Federal Highway Administration (FHWA) Office of Intermodal and Statewide Planning conducted a survey of approximately 250 ferry operators to identify: (1) existing ferry operations including the location and routes served; (2) source and amount, if any, of funds derived from Federal, State, or local governments supporting ferry construction or operations; (3) potential domestic ferry routes in the United States and its possessions; and (4) potential for use of high speed ferry services and alternative-fueled ferry services. In 2005, the Safe, Accountable, Flexible Efficient Transportation Equity Act—A Legacy for Users (SAFETEA-LU) Public Law 109-59, section 1801(e)) required that the Secretary, acting through the BTS, shall establish and maintain a national ferry database containing current information regarding routes, vessels, passengers and vehicles carried, funding sources and such other information as the Secretary considers useful. In 2012, MAP-21 legislation [Moving Ahead for Progress in the 21st Century Act (Pub. L. 112-141),] continued the BTS mandate to conduct the NCFO and also required that the Federal Highway Administration (FHWA) use the NCFO data to set the specific formula for allocating federal ferry funds. The funding allocations were based on a percentage of the number of passenger boardings, vehicle boardings, and route miles served. In 2015, the FAST Act legislation [Fixing America's Surface Transportation Act (Pub. L. 114-94, sec. 1112)] continues the BTS mandate to conduct the NCFO on a biennial basis, and extended the requirement that the Federal Highway Administration (FHWA) use the NCFO data to set the specific formula for allocating federal ferry funds as required in MAP-21.

BTS conducted the first National Census of Ferry Operators in 2006. The Census was conducted again in 2008, 2010, 2014, 2016, 2018, and 2020. Preparations are already underway for the next census in 2023. The 2022 NCFO was delayed by one year since ferry operations were disrupted by the pandemic and the census data should collect typical data. The overall length of the revised questionnaire for the 2022 NCFO will remain consistent with that of previous years. These information collections were originally approved by OMB under Control Number 2139-0009. The overall length of the questionnaire for the 2022 NCFO will remain consistent with that of previous years.

The census will be administered to the entire population of ferry operators (estimate 250 or less). The census will request the respondents to provide information such as: the points served; the type of ownership; the number of passengers and vehicles carried in the past 12 months; vessel descriptions (including type of fuel), federal, state and local funding sources, and intermodal connectivity. All data collected in 2020 will be added to the existing NCFO database.

Data Confidentiality Provisions: The National Census of Ferry Operators may collect confidential business information. The confidentiality of these data will be protected under 49 CFR 7.29. In accordance with this regulation, only statistical and non-sensitive business information will be made available through publications and public use data files. The statistical public use data are intended to provide an aggregated source of information on ferry boat operations nationwide. Business sensitive information may be shared with FHWA to support FAST Act funding allocations.

Frequency: This census will be updated every other year.

Estimated Average Burden per Response: The burden per respondent is estimated to be an average of 30 minutes. This average is based on an estimate of 20 minutes to answer questions that require answers specific to that year and an additional 10 minutes to review (and revise as needed) previously submitted data that will be pre-populated for each ferry operation.

Estimated Total Annual Burden: The total annual burden (in the year that the census is conducted) is estimated to be 125 hours (that is 30 minutes per respondent for 250 respondents equals 7,500 minutes).

Response to Comments: A 60-day notice requesting public comment was issued in the Federal Register on September 1, 2022. No comments were received.

Public Comments Invited: Interested parties are invited to send comments regarding any aspect of this information collection, including, but not limited to: (1) the necessity and utility of the information collection for the proper performance of the functions of the DOT; (2) the accuracy of the estimated burden; (3) ways to enhance the quality, utility, clarity and content of the collected information; and (4) ways to minimize the collection burden without reducing the quality of the collected information. Send comments to the Office of Information and Regulatory Affairs, Office of Management and Budget, 725-17th Street NW, Washington, DC 20503, Attention: BTS Desk Officer.

Issued in Washington, DC, on this 1st day of November, 2022.
Cha-Chi Fan,
Director, Office of Data Development and Standards, Bureau of Transportation Statistics, Office of the Assistant Secretary for Research and Technology.

[FR Doc. 2022-24034 Filed 11-3-22; 8:45 am]

BILLING CODE 4910-9X-P